DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Automated Export System.

OMB Control Number: 0607-0152.

Form Number(s): AES.

Type of Request: Revision of a currently approved collection.

Number of Respondents: 304,223 shippers and freight forwarders filing 15,218,820 AES transactions annually.

Average Hours per Response: 3 minutes per AES transaction.

Burden Hours: 760,941.

Needs and Uses: The Census Bureau is requesting continued clearance with revisions for the Automated Export System (AES) program.

The Census Bureau requires mandatory filing of all export information via the AES. This requirement is mandated through Public Law 107-228 of the Foreign Trade Relations Act of 2003. This law authorizes the Secretary of Commerce with the concurrences of the Secretary of State and the Secretary of Homeland Security to require all persons who file export information according to title 13, United States Code (U.S.C.), chapter 9, to file such information through the AES.

The AES is the primary instrument used for collecting export trade data, which are used by the Census Bureau for statistical purposes. The AES record provides the means for collecting data on U.S. exports. Title 13, U.S.C., chapter 9, sections 301-307, mandates the collection of these data. The regulatory provisions for the collection of these data are contained in the Foreign Trade Regulations (FTR), title 15, Code of Federal Regulations (CFR), part 30. The official export statistics collected from these tools provide the basic component for the compilation of the U.S. position on merchandise trade. These data are an essential component of the monthly totals provided in the U.S. International Trade in Goods and Services Press Release, a principal economic indicator and a primary component of the Gross Domestic Product (GDP). Traditionally, other federal agencies have used the Electronic Export Information (EEI) for export control purposes to detect and prevent the export of certain items by unauthorized parties or to unauthorized destinations or end users.

Since 2013, the Census Bureau and the U.S. Customs and Border Protection (CBP) have implemented the following enhancements to the AES: (1) Added Bureau of Industry and Security (BIS) Export Control Classification Numbers (ECCNs) and increased edits and validations between License Codes and ECCNs; (2) developed six new license codes, three of which allow corrections to licensed shipments identified in voluntary self-disclosures and the remaining three are used to identify shipments involving .y 600 Series ECCN items, support for the Cuban people, and Australia International Traffic in Arms Regulations (ITAR) Exemptions; (3) developed a new filing option indicator for the Advanced Export Information pilot program to indicate a partial or complete commodity shipment filing; (4) adjusted the Foreign Trade Zone Indicator to accept seven characters instead of five; and (5) migrated the AES to the Automated Commercial Environment (ACE) platform to modernize the technology and adhere to the requirements of developing a single window in accordance with Executive Order 13659, Streamlining the Export/Import Process for America's Businesses, through the International Trade Data System. The AES will be accessed via a portal in ACE. Once the Notice of Proposed Rulemaking titled Foreign Trade Regulations (FTR): Clarification on Filing Requirements, is published, the following enhancements may be implemented in the AES: (1) Develop an original Internal Transaction Number (ITN) field; and (2) develop a used electronics indicator.

The changes identified in this Final Rule will require the addition of two data elements in the AES. The added data elements include the original ITN and the used electronics indicator. The original ITN field is an optional data element and is utilized if the filer creates an additional AES record for a shipment that was previously filed. The next data element added is the used electronics indicator, which is a conditional data element. The indicator will be used to improve information on the quantity and destination of used electronics. These revisions should not affect the average three-minute response time for the completion of the AES record. Constant advances in technology and heightened knowledge of filers offset the time required to complete the new fields in the AES record. In addition, repetitious information can be entered automatically via templates and profiles, and the number of data entry sections has been reduced to improve the functionality of the AES. Completing these fields will not significantly affect respondent burden since the original ITN field is an optional data element and not required for all submissions. The used electronics indicator is a conditional field, which will only be required for 75 out of the approximately 9,000 Schedule B numbers and will affect less than one percent of commodities exported. See Attachment G for a list of the Schedule B numbers affected.

In addition to the two new proposed data elements that will be added to the AES, the Census Bureau added language to include the new timeframes for split shipments addressed in FTR Letter #6, Notice of Regulatory Change for Split Shipments. In practice, the export trade community currently adheres to the split shipment filing timeframes. The Census Bureau also revised language to reflect the two options for filing EEI. The two options are filing via AESDirect or filing to the AES mainframe. Finally, the Census Bureau added language to the FTR to ensure consistency with the Bureau of Industry and Security (BIS) Export Administration Regulations (EAR) based on the Export Control Reform. These clarifications do not impose new reporting requirements.

The information collected via the Automated Export System (AES) conveys what is being exported (description and commodity classification number), how much is exported (quantity, shipping weight, and value), how it is exported (mode of transport, exporting carrier, and whether containerized), from where (state of origin and port of export), to where (port of unloading and country of ultimate destination), and when a commodity is exported (date of exportation). The identification of the U.S. Principal Party in Interest (USPPI) shows who is exporting goods. The USPPI and/or the forwarding or other agent information provides a contact for verification of the information.

The information is used by the U.S. Federal Government and the private sector. The Federal Government uses every data element on the AES record. The Census Bureau published the Interim Final Rule “Foreign Trade Regulations (FTR): Clarification on Uses of Electronic Export Information” to describe how EEI will be accessed and utilized under the International Trade Data System (ITDS). The ITDS was established to eliminate the redundant information collection requirements, efficiently regulate the flow of commerce and to effectively enforce laws and regulations relating to international trade. It establishes a single portal system for the collection and distribution of standard electronic import and export data required by all participating federal agencies. In addition, the rule allows federal agencies with appropriate authority to access export data in the AES and ensure consistency with the Executive Order 13659, Streamlining the Export/Import Process for America's Businesses issued on February 19, 2014.

The data collected from the AES serves as the official record of export transactions. The mandatory use of the AES enables the Federal Government to produce more accurate export statistics. The Census Bureau delegated the authority to enforce the FTR to the BIS's Office of Export Enforcement along with the Department of Homeland Security's CBP and Immigrations and Customs Enforcement (ICE). The mandatory use of the AES also facilitates the enforcement of the Export Administration Regulations for the detection and prevention of exports of high technology commodities to unauthorized destinations by the BIS and the CBP; the International Traffic in Arms Regulations (ITAR) by the U.S. Department of State (State Department) for the exports of munitions; and the validation of the Kimberly Process Certificate for the exports of rough diamonds.

Other Federal agencies use this data to develop the components of the merchandise trade figures that are used in the calculations for the balance of payments and GDP accounts to evaluate the effects of the value of U.S. exports. The data is also used to enforce U.S. export laws and regulations, to plan and examine export promotion programs and agricultural development and assistance programs, and to prepare for and assist in trade negotiations under the General Agreement on Tariffs and Trade. Collection of these data also eliminates the need for conducting additional surveys for the collection of information as the AES shows the relationship of the parties to the export transaction (as required by the Bureau of Economic Analysis). These AES data are also used by the Bureau of Labor Statistics as a source for developing the export price index and by the U.S. Department of Transportation for administering the negotiation of reciprocal arrangements for transportation facilities between the United States and other countries. Additionally, a collaborative effort amongst the Census Bureau, the National Governors' Association and other data users resulted in the development of export statistics requiring the state of origin to be reported on the AES. This information enables state governments to focus activities and resources on fostering the exports of goods that originate in their states.

Export statistics collected from the AES aid private sector companies, financial institutions, and transportation entities in conducting market analysis and market penetration studies for the development of new markets and market-share strategies. Port authorities, steamship lines, airlines, aircraft manufacturers, and air transport associations use these data for measuring the volume and effect of air or vessel shipments and the need for additional or new types of facilities.

Affected Public: Individuals or households, Business or other for-profit.

Frequency: On occasion.

Respondent's Obligation: Mandatory.

Legal Authority: Title 13 U.S.C., chapter 9, sections 301-307.

This information collection request may be viewed at www.reginfo.gov. Follow the instructions to view Department of Commerce collections currently under review by OMB.

Written comments and recommendations for the proposed information collection should be sent within 30 days of publication of this notice to OIRA_Submission@omb.eop.gov or fax to (202) 395-5806.

Sheleen Dumas,
Departmental PRA Lead, Office of the Chief Information Officer.

[FR Doc. 2016-00421 Filed 1-11-16; 8:45 am]

BILLING CODE 3510-07-P